DEPARTMENT OF HEALTH AND HUMAN SERVICES

Health Resources and Services Administration

Training and Technical Assistance; Cooperative Agreement Announcement

AGENCY: Health Resources and Services Administration, HHS.

ACTION: Notice of availability of funds; Request for applications.

SUMMARY: The Health Resources and Services Administration (HRSA) announces the availability of fiscal year (FY) 2001 funds for an open competition for one cooperative agreement with a national organization for a total amount of $200,000. The goal of the cooperative agreement is to assist people who work in Eligible Metropolitan Areas (EMAs) under the Ryan White Comprehensive AIDS Resources Emergency (CARE) Act to understand and put into action the requirements of the CARE Act as reauthorized in October 2000.

Program Purpose: The applicant will transfer knowledge and provide practical help to a diverse group of people working in HIV-related programs that are located in EMAs regarding the new legislative requirements of the CARE Act. Recipients will include administrative and direct service staff of State/local AIDS programs, State/local health departments, agencies funded by the CARE Act, other AIDS Service Organizations (ASO) and Community Based Organizations (CBO), members of CARE Act planning bodies, and consumers.

Program Requirements: Applicants must propose a plan that will help achieve the purpose through one or more of the following six program objectives. Each program objective directly relates to one of the legislative requirements of the new CARE Act.

(1) Increase the number of people with a history of homelessness, substance abuse, and correctional detention, who are members of Title I CARE Act Planning Councils, or regularly attend or actively participate in Planning Council meetings.

(2) Increase the ability of CARE Act administrators, planning bodies and care providers to identify the unmet needs of PLWH who are not in care, to bring them into care, and to keep them in care.

(3) Increase the number of formal linkages and referral agreements among providers of HIV social support services, HIV prevention services, and HIV care and treatment services to improve health outcomes.

(4) Increase the number of formal linkages or referral agreements among publicly-funded programs (e.g., CARE Act, Medicaid, family planning, substance abuse, Children's Health Insurance Program), to collaborate on HIV service delivery and planning.

(5) Increase the knowledge of CARE Act administrators, planning bodies and care providers of models and best practices for continuous quality improvement and quality management.

(6) Increase staff abilities and service capacity in organizations serving underserved communities severely impacted by HIV/AIDS.

Under this Cooperative Agreement, HRSA will provide input and be involved actively in the planning and implementation of activities supported by these funds. Proposed activities must support the mutual goals and objectives of HRSA and the applicant.

Service Area: The geographic service area includes the 51 Title I EMAs across the United States, including the Commonwealth of Puerto Rico and the District of Columbia.

Eligible Applicants: Public or private non-profit organizations with a national membership or constituency whose mission is to address the needs of people who work with HIV/AIDS related programs and consumers of HIV/AIDS services. The applicant must have representatives from Ryan White CARE Act Title I EMAs within its membership or constituency. The applicant must have a history of developing and disseminating informational materials and providing training and technical assistance to HIV/AIDS related organizations within the past 3 years. The applicant must also have experience working on initiatives addressing the needs of Title I EMAs. National organizations that currently have Technical Assistance Cooperative Agreements with the HIV/AIDS Bureau are not eligible to apply.

Availability of Funds: One cooperative agreement will be competitively awarded for a total amount up to $200,000. It is expected that the award will be made by September 30, 2001. Funding will be made available for a 12-month budget period, with a project period of up to 3 years contingent upon the availability of funds and satisfactory performance.

Authorization: Title XXVI, Part F of the Public Health Service Act, (Title 42, USC), as amended by Public Law 106-345 the Ryan White CARE Act Amendments of 2000, dated October 20, 2000.

Application Dates: In order to be considered for this competition, applications must be received at the HRSA Grants Application Center by close of business on August 10, 2001. Applications shall be considered as meeting the deadline if they are: (1) Received on or before the deadline, or (2) Postmarked on or before the deadline date and received in time for orderly processing and submission to the review committee. Applicants should request a legibly dated receipt from a commercial carrier or U.S. Postal Service postmark. Private metered postmarks shall not be acceptable as proof of mailing. Applications received after the deadline will be returned to the applicant and not reviewed.

Application Materials: The Training and Technical Assistance Cooperative Agreement Guidance is available on the HIV/AIDS Bureau web site at the following Internet address: http://www.hrsa.gov/hab. The required Federal grant application form (PHS 5161-1) is available at the following Internet address: http://forms.psc.gov/forms/PHS/phs.html. For those applicants who are unable to access application materials electronically, hard copies must be obtained from the HRSA Grants Application Center, telephone number (877) 477-2123, fax number is (877) 477-2345, and e-mail address hrsagac@hrsa.gov.

FOR FURTHER INFORMATION CONTACT: Additional technical information may be obtained from Rene Sterling, HIV/AIDS Bureau, Health Resources and Services Administration, 5600 Fishers Lane, Room 7-36, Rockville, MD 20857. The telephone number is (301) 443-7778, the fax number is (301) 594-2835, and the e-mail address is Rsterling@hrsa.gov.

Dated: June 19, 2001.
Elizabeth M. Duke,
Acting Administrator.

[FR Doc. 01-15965 Filed 6-25-01; 8:45 am]

BILLING CODE 4160-15-P